DEPARTMENT OF HOMELAND SECURITY

Coast Guard

33 CFR Part 117

[Docket No. USCG-2012-0708]

Drawbridge Operation Regulation; Lewis and Clark River, Astoria, OR

AGENCY: Coast Guard, DHS.

ACTION: Notice of temporary deviation from regulations.

SUMMARY: The Coast Guard has issued a temporary deviation from the operating schedule that governs the Lewis and Clark Bridge which crosses the Lewis and Clark River, mile 1.0, at Astoria, OR. This deviation is necessary to accommodate major roadway maintenance on the bridge. This deviation allows the bridge to remain in the closed position to allow milling and repaving of the roadway surface on the lift span.

DATES: This deviation is effective from 7 a.m. on August 29, 2012 through 5 p.m. August 30, 2012.

ADDRESSES: Documents mentioned in this preamble as being available in the docket are part of docket USCG-2012-0708 and are available online by going to http://www.regulations.gov, inserting USCG-2012-0708 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7282 email randall.d.overton@uscg.mil. If you have questions on viewing the docket, call Renee V. Wright, Program Manager, Docket Operations, telephone 202-366-9826.

SUPPLEMENTARY INFORMATION: The Oregon Department of Transportation has requested that the Lewis and Clark Drawbridge, mile 1.0, remain closed to vessel traffic to facilitate the milling and repaving of the roadway surface on the lift span. The bridge provides a vertical clearance of 25 feet above mean high water when in the closed position. Vessels that do not require a bridge opening to safely pass beneath the bridge may continue to do so during this closure period. Under normal operations this bridge opens on signal with advance notification as required by 33 CFR 117.899(c). This deviation allows the Lewis and Clark Drawbridge across the Lewis and Clark River in Astoria, OR to remain in the closed position and need not open for maritime traffic from 7 a.m. August 29, 2012 through 5 p.m. on August 30, 2012. The bridge shall operate in accordance to 33 CFR 117.899(c) at all other times. Waterway usage on the Lewis and Clark River is primarily recreational boaters. Mariners will be notified and kept informed of the bridge's operational status via the Coast Guard Notice to Mariners publication and Broadcast Notice to Mariners as appropriate. The draw span will be required to open, if needed, for vessels engaged in emergency response operations during this closure period.

In accordance with 33 CFR 117.35(e), the drawbridge must return to its regular operating schedule immediately at the end of the designated time period. This deviation from the operating regulations is authorized under 33 CFR 117.35.

Dated: July 27, 2012.
Randall D. Overton,
Bridge Administrator.

[FR Doc. 2012-19393 Filed 8-7-12; 8:45 am]

BILLING CODE 9110-04-P